DEPARTMENT OF THE INTERIOR

National Park Service

Golden Gate National Recreation Area; Notice of Public Meetings for Calendar Year 2003

Notice is hereby given that six public meetings of the Golden Gate National Recreation Area (GGNRA) will be scheduled bimonthly for calendar year 2003 to hear presentations on issues related to management of the Golden Gate National Recreation Area. These public meetings are scheduled for the following dates at San Francisco and at locations yet to be determined in San Mateo County and Marin County, California:

Tuesday, January 28—San Francisco, CA

Tuesday, March 18—San Mateo County, CA location

Tuesday, May 20—San Francisco, CA

Tuesday, July 15—Marin County, CA location

Tuesday, September 16—San Francisco, CA

Tuesday, November 18—San Francisco, CA

Some public meetings may be joint meetings with the Presidio Trust. All public meetings will be held at 7 p.m. at GGNRA Park Headquarters, Building 201, Fort Mason, Bay and Franklin Streets, San Francisco, except those on Tuesday, March 18 and Tuesday, July 15, which will be held at 7 p.m. at locations to be announced in San Mateo County and Marin County, California. Information confirming the time and location of all public meetings or cancellations of any meeting can be received by calling the Office of the Public Affairs at (415) 561-4733 or (415) 561-4730.

Anticipated possible agenda items at meetings during calendar year 2003 may include:

• Scoping and workshops for the Comprehensive Transportation Management Plan

• Updates on Advanced Notice of Proposed Rulemaking (ANPR)

• Updates on Planning Issues for Fort Baker

• Updates on schematic and program design process for Fort Baker Waterfront

• Environmental Impact Statement (EIS) and scoping for Park Site Ferry Planning

• Updates on Cliff House Reconstruction Project

• Environmental Assessment (EA) for Easkoot Creek

• Fort Mason Officer's Club Interim Use

• Public comment on Revision of 5-Year Plan

• Review of San Francisco environmental documents for the San Francisco Marina Small Yacht Harbor Master Plan

• Reports and updates on the Cliff House Restoration Plan and other elements of the Sutro Design Plan, including the Merrie Way Visitor Center design presentation

• Report on Haypress Pond Project

• Alternatives review and NEPA scoping for Tennessee Valley Tamalpais Transportation Initiative (TTI) bridge redesign and trail extension

• Fort Mason—Pier I Construction Project Environmental Assessment (EA) and update reports on Fort Mason Center Pier One and Pier 2 seismic work

• Alcatraz construction/Laundry Building stabilization and adaptive use

• Draft Environmental Impact Statement (EIS) for Big Lagoon Alternatives

• Review of Marin County plans for Bolinas Lagoon

• Marin County Cape-Ivy removal

• Doyle Drive planning update

• Fort Mason—Pier 1 Construction and Reuse Update

• NEPA scoping for Fort Mason Center 50-year Lease

• Fort Mason FHLP project reconfigure front entrance

• Scoping for GGNRA General Management Plan Amendment (GMPA)

• Headlands Institute Landscape Environmental Assessment

• Marin Headlands / Fort Baker Transportation Management Plan (TMP) Alternatives

• Marine Mammal Center Environmental Assessment (EA)—Scoping Alternatives

• Presidio Trails Plan (1) Public Comment (2) Staff Report—Final Plan

• Update on Redwood Creek Watershed planning

• Updates on GGNRA's 5-Year Strategic Plan

• Update reports on Golden Gate Bridge Seismic Upgrade Project and Park Impacts

• Update reports on Fort Mason Center Pier One and Pier 2 Seismic Work

• GGNPA annual briefing

• Redwood Creek Watershed Planning

• Reports on Alcatraz Historic Preservation and Safety Construction

• Update on park expansion legislation

• Update on transfer of properties in GGNRA boundary to NPS

• Issues affecting San Mateo County national park lands

• Update on Slide Ranch site improvements

• Updates on Fort Mason Reuse projects and Upper Fort Mason planning

• Update on issues concerning areas managed by the Presidio Trust 4.

These meetings will also contain GGNRA Superintendent's Report and a report of the Presidio Trust Director.

Specific final agendas for these meetings will be made available to the public at least 20 days prior to each meeting and can be received by contacting the Office of Public Affairs, Golden Gate National Recreation Area, Building 201, Fort Mason, San Francisco, California 94123 or by calling (415) 561-4733. They are also noticed on the Golden Gate National Recreation Area Web site http://nps.gov/goga under the section “Public Meetings” and will posted throughout the park.

These meetings are open to the public. They will be recorded for documentation and transcribed for dissemination. Sign language interpreters are available by request at least one week prior to a meeting. The TDD phone number for these requests is (415) 556-2766. A verbatim transcript will be available three weeks after each meeting.

Dated: December 19, 2002.
Mai-Liis Bartling,
General Superintendent, Golden Gate National Recreation Area.

[FR Doc. 03-2319 Filed 1-30-03; 8:45 am]

BILLING CODE 4310-70-P